DEPARTMENT OF ENERGY

Federal Energy Regulatory Commission

Combined Notice of Filings #1

Take notice that the Commission received the following electric corporate filings:

Docket Numbers: EC23-80-000.

Applicants: CleanChoice Energy, Inc.

Description: Application for Authorization Under Section 203 of the Federal Power Act of CleanChoice Energy, Inc.

Filed Date: 4/28/23.

Accession Number: 20230428-5657.

Comment Date: 5 p.m. ET 5/19/23.

Docket Numbers: EC23-81-000.

Applicants: 2014 ESA Project Company, LLC.

Description: Application for Authorization Under Section 203 of the Federal Power Act of 2014 ESA Project Company, LLC.

Filed Date: 4/28/23.

Accession Number: 20230428-5661.

Comment Date: 5 p.m. ET 5/19/23.

Take notice that the Commission received the following exempt wholesale generator filings:

Docket Numbers: EG23-139-000.

Applicants: Adams Solar LLC.

Description: Adams Solar LLC submits Notice of Self-Certification of Exempt Wholesale Generator Status.

Filed Date: 4/28/23.

Accession Number: 20230428-5488.

Comment Date: 5 p.m. ET 5/19/23.

Docket Numbers: EG23-140-000.

Applicants: Sun Valley Storage LLC.

Description: Sun Valley Storage LLC submits Notice of Self-Certification of Exempt Wholesale Generator Status.

Filed Date: 4/28/23.

Accession Number: 20230428-5606.

Comment Date: 5 p.m. ET 5/19/23.

Docket Numbers: EG23-141-000.

Applicants: Libra Storage LLC.

Description: Libra Storage LLC submits Notice of Self-Certification of Exempt Wholesale Generator Status.

Filed Date: 4/28/23.

Accession Number: 20230428-5607.

Comment Date: 5 p.m. ET 5/19/23.

Take notice that the Commission received the following Complaints and Compliance filings in EL Dockets:

Docket Numbers: EL23-63-000.

Applicants: Energy Harbor LLC v. PJM Interconnection, L.L.C.

Description: Complaint of Energy Harbor LLC v. PJM Interconnection, L.L.C.

Filed Date: 4/27/23.

Accession Number: 20230427-5445.

Comment Date: 5 p.m. ET 5/17/23.

Take notice that the Commission received the following electric rate filings:

Docket Numbers: ER20-1505-005.

Applicants: Basin Electric Power Cooperative.

Description: Notice of Change in Status of Basin Electric Power Cooperative.

Filed Date: 4/27/23.

Accession Number: 20230427-5455.

Comment Date: 5 p.m. ET 5/18/23.

Docket Numbers: ER21-2461-000.

Applicants: TransAlta Energy Marketing (U.S.) Inc.

Description: Refund Report: Refund Report to be effective N/A.

Filed Date: 4/28/23.

Accession Number: 20230428-5438.

Comment Date: 5 p.m. ET 5/19/23.

Docket Numbers: ER22-1883-002.

Applicants: Ledyard Windpower, LLC.

Description: Amendment to January 30, 2023, Notice of Non-Material Change in Status of Ledyard Windpower, LLC.

Filed Date: 4/26/23.

Accession Number: 20230426-5323.

Comment Date: 5 p.m. ET 5/17/23.

Docket Numbers: ER23-1000-001.

Applicants: ISO New England Inc., The Narragansett Electric Company.

Description: Tariff Amendment: ISO New England Inc. submits tariff filing per 35.17(b): RIE; Response to Request for Additional Information in Docket No. ER23-1000-000 to be effective 1/1/2023.

Filed Date: 5/1/23.

Accession Number: 20230501-5285.

Comment Date: 5 p.m. ET 5/22/23.

Docket Numbers: ER23-1003-001.

Applicants: ISO New England Inc., The Narragansett Electric Company.

Description: Compliance filing: ISO New England Inc. submits tariff filing per 35: The Narragansett Electric Company; Compliance Fling in Docket No. ER23-1003 to be effective 1/1/2023.

Filed Date: 5/1/23.

Accession Number: 20230501-5258.

Comment Date: 5 p.m. ET 5/22/23.

Docket Numbers: ER23-1768-000.

Applicants: New England Power Pool Participants Committee.

Description: § 205(d) Rate Filing: May 2023 Membership Filing to be effective 4/1/2023.

Filed Date: 4/28/23.

Accession Number: 20230428-5431.

Comment Date: 5 p.m. ET 5/19/23.

Docket Numbers: ER23-1769-000.

Applicants: Northern Indiana Public Service Company LLC.

Description: § 205(d) Rate Filing: Second Amend Dark Fiber Lease Agrmnt to be effective 3/31/2023.

Filed Date: 5/1/23.

Accession Number: 20230501-5001.

Comment Date: 5 p.m. ET 5/22/23.

Docket Numbers: ER23-1770-000.

Applicants: Alabama Power Company, Georgia Power Company, Mississippi Power Company.

Description: § 205(d) Rate Filing: Alabama Power Company submits tariff filing per 35.13(a)(2)(iii: AMEA NITSA Amendment Filing (DNR LOC) to be effective 8/1/2023.

Filed Date: 5/1/23.

Accession Number: 20230501-5160.

Comment Date: 5 p.m. ET 5/22/23.

Docket Numbers: ER23-1771-000.

Applicants: ISO New England Inc., New England Power Pool Participants Committee.

Description: Compliance filing: ISO New England Inc. submits tariff filing per 35: Revsions to Schedule 24; Second Compliance Filing for Order No. 676-J to be effective 12/31/9998.

Filed Date: 5/1/23.

Accession Number: 20230501-5206.

Comment Date: 5 p.m. ET 5/22/23.

Docket Numbers: ER23-1772-000.

Applicants: Fox Squirrel Solar LLC.

Description: Baseline eTariff Filing: Initial Market-Based Rate Petition of Fox Squirrel Solar to be effective 7/1/2023.

Filed Date: 5/1/23.

Accession Number: 20230501-5216.

Comment Date: 5 p.m. ET 5/22/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 1, 2023.
Debbie-Anne A. Reese,
Deputy Secretary.

[FR Doc. 2023-09606 Filed 5-4-23; 8:45 am]

BILLING CODE 6717-01-P